DEPARTMENT OF STATE

[Public Notice: 12518]

Certification Pursuant to Section 7008(b) of Department of State, Foreign Operations, and Related Program Appropriations Act, 2024 With Respect to Gabon

Pursuant to section 7008(b) of the Department of State, Foreign Operations, and Related Programs Appropriations Act, 2024 (Div. F, Pub. L. 118-47) (FY 2024 SFOAA), I hereby certify that it is in the national security interest of the United States to waive the restriction under section 7008(a) of the FY 2024 SFOAA with respect a maritime security assistance program for the government of Gabon and thereby waive the application of section 7008(a) with respect to such assistance.

This Certification and the accompanying Memorandum of Justification shall be promptly reported to the Congress. This Certification shall be published in the Federal Register.

Dated: August 07, 2024.
Kurt M. Campbell,
Deputy Secretary of State.

[FR Doc. 2024-20313 Filed 9-9-24; 8:45 am]

BILLING CODE 4710-25-P